FEDERAL COMMUNICATIONS COMMISSION

47 CFR Part 73

[DA 03-4121, MM Docket No. 96-100; RM-9963]

Radio Broadcasting Services; Amherst and Lynchburg, VA

AGENCY: Federal Communications Commission.

ACTION: Final rule.

SUMMARY: At the request of Greater Lynchburg Stereo Broadcasters, this document allots Channel 229A to Lynchburg, Virginia, and denies a proposal to allot Channel 294A to Amherst, Virginia. See 65 FR 59164, published October 4, 2000. The reference coordinates for the Channel 229A allotment at Lynchburg, Virginia, are 37-21-33 and 79-09-37.

DATES: Effective March 1, 2004.

FOR FURTHER INFORMATION CONTACT: Robert Hayne, Media Bureau (202) 418-2177.

SUPPLEMENTARY INFORMATION: This is a synopsis of the Commission's Report and Order in MM Docket No. 96-100, adopted December 31, 2003, and released January 16, 2004. The full text of this decision is available for inspection and copying during normal business hours in the FCC's Reference Information Center at Portals II, CY-A257, 445 12th Street SW., Washington, DC. The complete text of this decision may also be purchased from the Commission's copy contractor, Qualex International, Portals ll, 445 12th Street SW., Room CY-B402, Washington, DC 20554, telephone (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Virginia, is amended by adding Channel 229A at Lynchburg.

Federal Communications Commission.
John A. Karousos,
Assistant Chief, Audio Division, Media Bureau.

.

[FR Doc. 04-2836 Filed 2-9-04; 8:45 am]

BILLING CODE 6712-01-P